BUREAU OF CONSUMER FINANCIAL PROTECTION

[Docket No. CFPB-2017-0002]

Agency Information Collection Activities: Comment Request

AGENCY: Bureau of Consumer Financial Protection.

ACTION: Notice and request for comment.

SUMMARY: In accordance with the Paperwork Reduction Act of 1995 (PRA), the Bureau of Consumer Financial Protection (Bureau) is requesting approval for a new information collection, titled, “Student Loan Servicing Market Monitoring.”

DATES: Written comments are encouraged and must be received on or before April 24, 2017 to be assured of consideration.

ADDRESSES: You may submit comments, identified by the title of the information collection, Office of Management and Budget (OMB) Control Number (see below), and docket number (see above), by any of the following methods:

• Electronic: http://www.regulations.gov. Follow the instructions for submitting comments.

• Mail: Consumer Financial Protection Bureau (Attention: PRA Office), 1700 G Street NW., Washington, DC 20552.

• Hand Delivery/Courier: Consumer Financial Protection Bureau (Attention: PRA Office), 1275 First Street NE., Washington, DC 20002.

Please note that comments submitted after the comment period will not be accepted. In general, all comments received will become public records, including any personal information provided. Sensitive personal information, such as account numbers or Social Security numbers, should not be included.

FOR FURTHER INFORMATION CONTACT: Documentation prepared in support of this information collection request is available at www.regulations.gov. Requests for additional information should be directed to the Consumer Financial Protection Bureau, (Attention: PRA Office), 1700 G Street NW., Washington, DC 20552, (202) 435-9575, or email: CFPB_PRA@cfpb.gov. Please do not submit comments to this mailbox.

SUPPLEMENTARY INFORMATION:

Title of Collection: Student Loan Servicing Market Monitoring.

OMB Control Number: 3170-XXXX.

Type of Review: New collection (Request for a new OMB control number).

Affected Public: Businesses and other for-profit entities.

Estimated Number of Respondents: 10.

Estimated Total Annual Burden Hours: 6,400.

Abstract: The Bureau will require quarterly data collection on aggregated student loan servicing metrics and borrower outcomes from student loan servicers. The order is intended to help the Bureau carry out its market monitoring goals and is pursuant to the Bureau's market monitoring authority under Section 1022(c)(4) of the Dodd- Frank Wall Street and Consumer Protection Act.

Request for Comments: Comments are invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for OMB approval. All comments will become a matter of public record.

Dated: February 16, 2017.
Darrin A. King,
Paperwork Reduction Act Officer, Bureau of Consumer Financial Protection.

[FR Doc. 2017-03501 Filed 2-22-17; 8:45 am]

BILLING CODE 4810-AM-P